DEPARTMENT OF ENERGY

Federal Energy Regulatory Commission

Notice of Filings

Thursday, May 26, 2005.

Take notice that the Commission received the following electric rate filings:

Docket Numbers: ER00-1857-006.

Applicants: Split Rock Energy LLC.

Description: Split Rock Energy LLC submits First Revised Sheet 1 to FERC Electric Tariff, Original Volume 1, effective 5/25/05 under ER00-1857.

Filed Date: 05/24/2005.

Accession Number: 20050526-0022.

Comment Date: 5 p.m. eastern time on Tuesday, June 14, 2005.

Docket Numbers: ER01-2071-002.

Applicants: Desert Power, L.P.

Description: Desert Power, L.P. submits its updated triennial market power analysis pursuant to Section 205 of the Federal Power Act, etc. under ER01-2071.

Filed Date: 05/24/2005.

Accession Number: 20050526-0023.

Comment Date: 5 p.m. eastern time on Tuesday, June 14, 2005.

Docket Numbers: ER05-1012-000.

Applicants: Union Electric Company d/b/a AmerenUE.

Description: Union Electric Co dba AmerenUE submits its notice of cancellation of the Amended Interchange Agreement between Associated Electric Cooperative Inc., Kansas Gas & Electric Company, Public Service Company of Oklahoma and Union Electric Company for the Missouri-Kansas Oklahoma 345 kV Interconnection under ER05-1012.

Filed Date: 05/24/2005.

Accession Number: 20050526-0025.

Comment Date: 5 p.m. eastern time on Tuesday, June 14, 2005.

Docket Numbers: ER05-1013-000.

Applicants: California Independent System Operator Corporation.

Description: California Independent System Operator Corporation submits the SWPL Operation Agreement with San Diego Gas and Electric Company under ER05-1013.

Filed Date: 05/24/2005.

Accession Number: 20050526-0024.

Comment Date: 5 p.m. eastern time on Tuesday, June 14, 2005.

Docket Numbers: ER05-1014-000, ER98-3184-008 and ER00-494-001.

Applicants: TransAlta Energy Marketing (U.S.) Inc. and TransAlta Centralia Generation LLC.

Description: Submission of triennial update of market power analysis for TransAlta Energy Marketing (US) Inc. and TransAlta Centralia Generation LLC and Application of TransAlta Energy Marketing (US) Inc for amendment of market based rate authority and order approving revised rate schedule under ER05-1014 et al.

Filed Date: 05/24/2005.

Accession Number: 20050526-0021.

Comment Date: 5 p.m. eastern time on Tuesday, June 14, 2005.

Docket Numbers: ER05-1016-000; ER05-1017-000.

Applicants: TransAlta Energy Marketing Corp. and TransAlta Energy Marketing (California) Inc.

Description: Notice of Surrender of Market Based Rate Authority re TransAlta Energy Marketing Corp and TransAlta Energy Marketing (California) Inc under ER05-1016 et al.

Filed Date: 05/24/2005.

Accession Number: 20050526-0020.

Comment Date: 5 p.m. eastern time on Tuesday, June 14, 2005.

Docket Numbers: ER05-1011-000.

Applicants: New York Independent System Operator, Inc.

Description: New York Independent System Operator, Inc. submits revisions to its ISO Market Administration and Control Area Services Tariff regarding energy limited resources and capacity limited resources under ER05-1011.

Filed Date: 05/23/2005.

Accession Number: 20050525-0087.

Comment Date: 5 p.m. eastern time on Monday, June 13, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlinSupport@ferc.gov. or call (866) 208-3676 (toll free). For TTY, call (202) 502-8659.

Linda Mitry,
Deputy Secretary.

[FR Doc. E5-3390 Filed 6-28-05; 8:45 am]

BILLING CODE 6717-01-P